DEPARTMENT OF ENERGY

Federal Energy Regulatory Commission

Notice of Application Accepted for Filing; Ready for Environmental Analysis; and Soliciting Motions To Intervene, Protests, Comments on Application and Settlement Agreement; and Recommendations, Terms and Conditons and Prescriptions

February 28, 2006.

Take notice that the following hydroelectric application has been filed with the Commission and is available for public inspection.

a. Type of Application: New Major License and approval of Settlement Agreement.

b. Project No.: 2170-029.

c. Date Filed: Application—April 22, 2005; Settlement Agreement August 31, 2005.

d. Applicant: Chugach Electric Association.

e. Name of Project Cooper Lake Hydroelectric Project.

f. Location: On Cooper Lake, approximately 4.8 river miles from the mouth of Cooper Creek in south central Alaska, 55 air miles south of Anchorage.

g. Filed Pursuant to: Federal Power Act 16 U.S.C. 791(a)-825(r) and Rule 602 of the Commission's Rules of Practice and Procedure, 18 CFR 385.602.

h. Applicant Contact: Burke Wick, Chugach Electric Association, 5601 Minnesota Drive, Anchorage, Alaska 99519. (907) 762-4779.

i. FERC Contact: David Turner (202) 502-6091 or david.turner@ferc.gov.

j. Deadline for filing motions to intervene, protests, comments on application and settlement agreement, recommendations, terms and conditions and prescriptions: 60 days from the issuance date of this notice; Applicant reply comments are due 105 days from issuance date of this notice.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene and protests may be filed electronically via the Internet in lieu of paper. The Commission strongly encourages electronic filings. See 18 CFR 385.2001(a)(1)(iii) and the instructions on the Commission's Web site (http://www.ferc.gov) under the “e-Filing” link.

k. This application has been accepted, and is ready for environmental analysis.

l. The existing project consists of: (1) The Cooper Lake Dam, a 52-foot-high earth-and-rockfilled structure; (2) the 2,620-acre, 5-mile-long Cooper Lake Reservoir; (3) two vertical-shaft Francis turbines with a total capacity of 19.38 megawatts; (4) an intake structure located on Cooper Lake; (5) a tunnel and penstock extending 10,686 feet east from the intake to the powerhouse; a (6) 6.3-mile-long, 69-kV transmission line from the powerhouse to Quartz Creek Substation; and 90.4-mile-long, 115-kV transmission line from the Quartz Creek Substation to Anchorage.

A new dam is proposed to be constructed on Stetson Creek to divert water into Cooper Lake to provide flow releases for fish habitat improvements in Cooper Creek.

m. Chugach Electric filed on August 31, 2005, a Settlement Agreement on behalf of itself, and the U.S. Forest Service, U.S. Fish and Wildlife Service, National Park Service, National Marine Fisheries Service, Kenaitze Indian Tribe, Alaska Department of Fish and Game, Alaska Department of Natural Resources, The Fish for Cooper Creek Coalition, Alaska Flyfishers Association, and the Alaska Center for the Environment. The purpose of the Settlement Agreement is to resolve among the signatories all issues associated with issuance of a new license for the project regarding economic and power considerations, water quality and temperature, instream flows, fish habitat, visual resources, recreation and cultural resources. The Parties to the Settlement jointly request the Commission accept and incorporate into any new license for the project, the protection, mitigation, and enhancement measures and proposed license articles stated in the Settlement Agreement.

n. A copy of the application and settlement agreement is on file with the Commission and is available for public inspection. This filing is available for review at the Commission in the Public Reference Room or may be viewed on the Commission's Web site at http://www.ferc.gov using the “eLibrary” link. Enter the docket number excluding the last three digits in the docket number field to access the document. For assistance, contact FERC online support at ferconlinesupport@ferc.gov or toll-free at 1-866-208-3676, or for Text Telephone (TTY) call (202) 502-8659. A copy is also available for inspection and reproduction at the address in item h above.

o. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requiremens of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

You may also register online at http://www.ferc.gov/docs-filing/esubscription.asp to be notified via e-mail of new filings and issuances related to this or other pending projects. For assistance, contact FERC Online Support.

Magalie R. Salas,
Secretary.

[FR Doc. E6-3201 Filed 3-7-06; 8:45 am]

BILLING CODE 6717-01-P